DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by March 3, 2004.

Title, Form, and OMB Number: Involuntary Allotment Application; DD Form 2653; OMB Number 0704-0367.

Type of Request: Revision of a currently approved collection.

Number of Respondents: 7,531.

Responses per Respondent: 1.

Annual Responses: 7,531.

Average Burden per Response: 30 minutes.

Annual Burden Hours: 3,766.

Needs and Uses: This collection of information is necessary to initiate an involuntary allotment from the pay of a member of the Uniformed Services for indebtedness owed a third party under 5 U.S.C. 5520a, which authorizes involuntary allotments if there is a final court judgment acknowledging the debt and it is determined by competent military or executive authority to be in compliance with the procedural requirements of the Soldiers' and Sailors' Civil Relief Act. In order to satisfy these statutory requirements, the DD Form 2653 requires the respondent to provide identifying information on the member of the Uniformed Services; provide a certified copy of the judgment; and certify, if applicable, that the judgment complies with the Soldiers' and Sailors' Civil Relief Act.

Affected Public: Individuals or households; businesses or other for-profit.

Frequency: On occasion.

Respondent's Obligation: Required to obtain or retain benefits.

OMB Desk Officer: Ms. Jacqueline Zeiher. Written comments and recommendations on the proposed information collection should be sent to Ms. Zeiher at the Office of Management and Budget, Desk Officer for DoD, Room 10236, New Executive Office Building, Washington, DC 20503.

DOD Clearance Officer: Ms. Jacqueline Davis. Written requests for copies of the information collection proposal should be sent to Ms. Davis, WHS/DIOR, 1215 Jefferson Davis Highway, Suite 1204, Arlington, VA 2202-4302.

Dated: January 27, 2004.
Particial L. Toppings,
Alternate OSD Federal Register Liaison Officer, Department of Defense.

[FR Doc. 04-2039 Filed 1-30-04; 8:45 am]

BILLING CODE 5001-06—M